DEPARTMENT OF LABOR

Employment and Training Administration

[TA-W-37,239 and NAFTA-3642]

DeZurik Corporation, McMinnville, Tennessee; Notice of Revised Determination on Remand

The United States Court of International Trade (USCIT) granted the Secretary of Labor's motion for voluntary remand for further investigation of the negative determination in Former Employees of DeZurik Corporation v. U.S. Secretary of Labor (Court No. 00-07-00319).

On March 30, 2000, the Department issued negative determinations regarding Trade Adjustment Assistance (TAA) and North American Free Trade Agreement-Transitional Adjustment Assistance, applicable to workers producing industrial valves at DeZurik Corporation, McMinnville, Tennessee. The notices were published in the Federal Register on April 21, 2000; the TAA petition TA-W-37,239 (65 FR 21473) and the NAFTA-TAA petition NAFTA-3642 (65 FR 21475).

On April 15, 2000, the International Association of Machinists (IAM), Local 1941, requested administrative reconsideration of the Department's denial of TA-W-37,239 and NAFTA-3642, which also resulted in affirmation of the initial negative decision. The determination was issued on June 5, 2000, and published in the Federal Register on June 15, 2000 (65 FR 32275).

On remand, the Department obtained new information regarding the production of components produced at the McMinnville, Tennessee plant, which were used in the production of the industrial valves sold by DeZurick. Investigation findings on remand show that the company relied on imports of some of the components formerly produced at the McMinnville, Tennessee plant. Other investigation findings on remand revealed that the subject firm has shifted a portion of the production of valves at the McMinnville, Tennessee plant to Canada.

Conclusion

After careful review of the additional facts obtained on remand, I conclude that there were increased imports of articles like or directly competitive with those produced by the subject firm and that there was a shift in production to Canada. In accordance with the provisions of the Trade Act, I make the following certification:

“All workers of DeZurik Corporation, McMinnville, Tennessee, who became totally or partially separated from employment on or after December 6, 1998, through two years from the issuance of this revised determination, are eligible to apply for adjustment assistance under Section 223 and NAFTA-TAA under Section 250 of the Trade Act of 1974.”

Signed at Washington, D.C. this 13th day of June 2001.
Linda G. Poole,
Certifying Officer, Division of Trade Adjustment Assistance.

[FR Doc. 01-16846 Filed 7-3-01; 8:45 am]

BILLING CODE 4510-30-M